DEPARTMENT OF THE INTERIOR

National Register of Historic Places; Notification of Pending Nominations and Related Actions

Nominations for the following properties being considered for listing or related actions in the National Register were received by the National Park Service before January 5, 2008. Pursuant to section 60.13 of 36 CFR part 60 written comments concerning the significance of these properties under the National Register criteria for evaluation may be forwarded by United States Postal Service, to the National Register of Historic Places, National Park Service, 1849 C St., NW., 2280, Washington DC 20240; by all other carriers, National Register of Historic Places, National Park Service, 1201 Eye St., NW., 8th Floor, Washington DC 20005; or by fax, 202-371-6447. Written or faxed comments should be submitted by February 6, 2008.

J. Paul Loether,
Chief, National Register of Historic Places/National Historic Landmarks Program.

LOUISIANA

Avoyelles Parish

Moreauville High School, 287 Main St., Moreauville, 08000019

MISSOURI

Jackson County

Gary, Hunter, House, 1228 E. 56th St., Kansas City, 08000022

Warren County

Marthasville Hardware Building, 203 Depot St., Marthasville, 08000020

NEW YORK

Greene County

Hathaway, 781 Co. Rd. 25, Tannersville, 08000023

Jefferson County

Smith—Ripley House, 29 E. Church St., Adams, 08000021

Monroe County

Christ Church, 141 E. Ave., Monroe, 08000024

Schoharie County

Colyer House, The, 5729 NY 30, Schoharie, 08000025

VIRGINIA

Harrisonburg Independent City

Old Town Historic District, Roughly bounded by Cantrell Ave., Ott, Water & S. Main Sts., Harrisonburg (Independent City), 08000026

WISCONSIN

Ashland County

MARQUETTE (shipwreck), (Great Lakes Shipwreck Sites of Wisconsin MPS) 5 mi. E. of Michigan Island, Lake Superior, La Pointe, 08000027

Milwaukee County

Hunt, W. Ben, Cabin, 5885 S. 116th St., Hales Corners, 08000028

[FR Doc. 08-194 Filed 1-18-08; 8:45 am]

BILLING CODE 4312-51-M